DEPARTMENT OF LABOR

Employment and Training Administration

[TA-W-59,641]

Arizona Textile, a Division of Charming Shoppers, Inc., also known as Fenise Apparel, Phoenix, AZ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 21, 2006, applicable to workers of Arizona Textile, a division of Charming Shoppers, Inc., Phoenix, Arizona. The notice was published in the Federal Register on August 4, 2006 (71 FR 44320).

At the request of the petitioners, the Department reviewed the certification for workers of the subject firm. The workers were engaged in the production of ladies apparel (i.e., tops, pants, shorts, culottes, dresses, jackets, and skirts).

New information provided by the company shows that Arizona Textile became known as Fenise Apparel on July 14, 2006 after a change in ownership. Some workers separated from employment at the subject firm had their wages reported under a separate unemployment insurance (UI) tax accounts for Fenise Apparel.

Accordingly, the Department is amending this certification to show a change in ownership.

The intent of the Department's certification is to include all workers of Arizona Textile, a division of Charming Shoppers, Inc., Phoenix, Arizona who were adversely affected by a shift in production of ladies apparel to China, Vietnam and the Dominican Republic.

The amended notice applicable to TA-W-59,641 is hereby issued as follows:

Workers producing ladies apparel at Arizona Textile, a division of Charming Shoppers, Inc., also known as Fenise Apparel, Phoenix, Arizona, who became totally or partially separated from employment on or after June 27, 2005, through July 21, 2008, are eligible to apply for adjustment assistance under Section 223 of the Trade Act of 1974, and are also eligible to apply for alternative trade adjustment assistance under Section 246 of the Trade Act of 1974.

Signed at Washington, DC this 28th day of August 2007.
Linda G. Poole,
Certifying Officer, Division of Trade Adjustment Assistance.

[FR Doc. E7-17472 Filed 9-4-07; 8:45 am]

BILLING CODE 4510-FN-P